ENVIRONMENTAL PROTECTION AGENCY

40 CFR Part 52

[EPA-R09-OAR-2019-0127; FRL-10012-23-Region 9]

Air Plan Approval; California; Sacramento Metropolitan Air Quality Management District

AGENCY: Environmental Protection Agency (EPA).

ACTION: Proposed rule.

SUMMARY: The Environmental Protection Agency (EPA) is proposing to approve revisions to the Sacramento Metropolitan Air Quality Management District (SMAQMD) portion of the California State Implementation Plan (SIP). These revisions concern emissions of volatile organic compounds (VOCs) from the surface coating operations of plastic parts and products. We are proposing to approve a local rule to regulate these emission sources under the Clean Air Act (CAA or the “Act”) and we are proposing to approve a negative declaration for a subcategory of a control techniques guidelines (CTG) source in the SMAQMD.

We are taking comments on this proposal and plan to follow with a final action.

DATES: Any comments must arrive by August 24, 2020.

ADDRESSES: Submit your comments, identified by Docket ID No. EPA-R09-OAR-2019-0127 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit https://www.epa.gov/dockets/commenting-epa-dockets.

FOR FURTHER INFORMATION CONTACT: Arnold Lazarus, EPA Region IX, (415) 972-3024, lazarus.arnold@epa.gov.

SUPPLEMENTARY INFORMATION: Throughout this document, “we,” “us” and “our” refer to the EPA.

Table of Contents

I. The State's Submittal

A. What rule and negative declaration did the State submit?

B. Are there other versions of this rule and negative declaration?

C. What is the purpose of the submitted rule?

II. The EPA's Evaluation and Action

A. How is the EPA evaluating the rule and the negative declaration?

B. Do the submissions meet the evaluation criteria?

C. Public Comment and Proposed Action

III. Incorporation by Reference

IV. Statutory and Executive Order Reviews

I. The State's Submittal

A. What rule and negative declaration did the State submit?

Table 1 lists the rule and the negative declaration addressed by this proposal with the dates that they were adopted by the local air agency and submitted to the EPA by the California Air Resources Board.

Table 1—Submitted Rule and Negative Declaration
Local agency | Rule No. | Rule title | Adopted | Submitted
SMAQMD | 468 | Surface Coating of Plastic Parts and Products | 03/22/2018 | 05/23/2018
SMAQMD |  | Negative Declaration for “Control Techniques Guidelines for Miscellaneous Metal and Plastic Parts Coatings,” EPA-453/R-08-003, September 2008 (Pleasure Craft Coating Portion Only) (“Pleasure Craft Coating Neg Dec”) | 03/22/2018 | 6/11/2018

On August 23, 2018, the EPA determined that the submittal for SMAQMD Rule 468 and the Pleasure Craft Coating Neg Dec met the completeness criteria in 40 CFR part 51 Appendix V, which must be met before formal EPA review.¹

¹ Letter from Elizabeth Adams, Director, Air Division, Environmental Protection Agency to Richard Corey, Executive Officer, California Air Resources Board, stating fulfillment of completeness criteria of 40 CFR part 51, Appendix V, dated August 23, 2018.

B. Are there other versions of this rule and negative declaration?

There are no previous versions of Rule 468 in the SIP. There are no previous versions of the Pleasure Craft Neg Dec in the SMAQMD portion of the California SIP for the 1997, 2008 and 2015 8-hour ozone national ambient air quality standards (NAAQS).

C. What is the purpose of the submitted rule?

VOCs contribute to the production of ground-level ozone or “smog,” and particulate matter, which harm human health and the environment. Section 110(a) of the CAA requires states to submit regulations that control VOC emissions. Rule 468 controls VOC emissions from plastic parts and products; and automotive/transportation and business machines plastic parts coating operations. The EPA's technical support document (TSD) has more information about this rule and EPA's evaluation.

II. The EPA's Evaluation and Action

A. How is the EPA evaluating the rule and the negative declaration?

Rules in the SIP must be enforceable (see CAA section 110(a)(2)), must not interfere with applicable requirements concerning attainment and reasonable further progress or other CAA requirements (see CAA section 110(l)), and must not modify certain SIP control requirements in nonattainment areas without ensuring equivalent or greater emissions reductions (see CAA section 193).

Generally, SIP rules must require reasonably available control technology (RACT) for each category of sources covered by a CTG document and for each non-CTG major source of VOCs in ozone nonattainment areas classified as Moderate or above (see CAA section 182(b)(2)). The SMAQMD regulates an ozone nonattainment area classified as Severe nonattainment for the 1997 and 2008 8-hour NAAQS (40 CFR 81.305), and Moderate nonattainment for the 2015 ozone NAAQS. Therefore, this rule must implement RACT.

States should submit for SIP approval negative declarations for those source categories for which they have not adopted CTG-based regulations (because they have no sources above the CTG-recommended applicability threshold), regardless of whether such negative declarations were made for an earlier SIP.² To do so, the submittal should provide reasonable assurance that no sources subject to the CTG requirements currently exist in the ozone nonattainment area.

² 57 FR 13498, 13512 (April 16, 1992).

Guidance and policy documents that we used to evaluate enforceability, revision/relaxation and rule stringency requirements for the applicable criteria pollutants include the following:

1. “State Implementation Plans; General Preamble for the Implementation of Title I of the Clean Air Act Amendments of 1990,” 57 FR 13498 (April 16, 1992); 57 FR 18070 (April 28, 1992).

2. “Issues Relating to VOC Regulation Cutpoints, Deficiencies, and Deviations,” EPA, May 5, 1988 (the Bluebook, revised January 11, 1990).

3. “Guidance Document for Correcting Common VOC & Other Rule Deficiencies,” EPA Region 9, August 21, 2001 (the Little Bluebook).

4. “Control Techniques Guidelines for Miscellaneous Metal and Plastic Parts Coatings,” EPA-453/R-08-003, September 2008.

B. Do the submissions meet the evaluation criteria?

This rule is consistent with CAA requirements and relevant guidance regarding enforceability, RACT and SIP revisions. The TSDs for the rule and negative declaration have more information on our evaluation. Moreover, the negative declaration satisfies the certification requirement, and the EPA's independent research yielded no indication of sources in the SMAQMD portion of the nonattainment area that would be subject to the CTG subcategory.

C. Public Comment and Proposed Action

As authorized in section 110(k)(3) of the Act, the EPA proposes to fully approve the submitted rule and the negative declaration because they fulfill all relevant requirements. We will accept comments from the public on this proposal until August 24, 2020. If we take final action to approve the submitted rule and negative declaration, our final action will incorporate the rule and the negative declaration into the federally enforceable SIP.

III. Incorporation by Reference

In this rule, the EPA is proposing to include in a final EPA rule, regulatory text that includes incorporation by reference. In accordance with requirements of 1 CFR 51.5, the EPA is proposing to incorporate by reference the SMAQMD rule and the negative declaration described in Table 1 of this preamble. The EPA has made, and will continue to make, these materials available through www.regulations.gov and at the EPA Region IX Office (please contact the person identified in the FOR FURTHER INFORMATION CONTACT section of this preamble for more information).

IV. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this proposed action merely proposes to approve state law as meeting federal requirements and does not impose additional requirements beyond those imposed by state law. For that reason, this proposed action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address disproportionate human health or environmental effects with practical, appropriate, and legally permissible methods under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Ozone, Particulate matter, Reporting and recordkeeping requirements, Volatile organic compounds.

Authority: 42 U.S.C. 7401 et seq.

Dated: July 14, 2020.
John Busterud,
Regional Administrator, Region IX.

[FR Doc. 2020-15602 Filed 7-22-20; 8:45 am]

BILLING CODE 6560-50-P